DEPARTMENT OF ENERGY

Federal Energy Regulatory Commission

[Docket No. EL07-73-000]

Southwest Power Pool, Inc.; Notice of Institution of Proceeding and Refund Effective Date

July 30, 2007.

On June 29, 2007, the Commission issued an order that instituted a proceeding in the above-referenced docket, pursuant to section 206 of the Federal Power Act (FPA) 16 U.S.C. 824e, concerning the justness and reasonableness of the use of Violation Relaxation Limit values in the Southwest Power Pool, Inc.'s energy imbalance service market. Southwest Power Pool, Inc., 119 FERC ¶ 61,342 (2007).

The refund effective date in the above-docketed proceeding, established pursuant to section 206(b) of the FPA, will be the date of publication of this notice in the Federal Register.

Kimberly D. Bose,
Secretary.

[FR Doc. E7-15090 Filed 8-2-07; 8:45 am]

BILLING CODE 6717-01-P